DEPARTMENT OF THE INTERIOR

National Park Service

Boston Harbor Islands National Recreation Area Advisory Council; Notice of Public Meeting

AGENCY: Department of the Interior, National Park Service, Boston Harbor Islands National Recreation Area.

ACTION: Notice of meeting.

SUMMARY: Notice is hereby given that a meeting of the Boston Harbor Islands National Recreation Area Advisory Council will be held on Wednesday, March 5, 2008, at 6 p.m. to 8 p.m. at University of Massachusetts—Boston, 100 Morrissey Boulevard, Campus Center, 3rd floor Bayview Room, Boston, MA.

This will be the annual meeting of the Council. The agenda will include a presentation on the development of a new guide book: Discovering the Boston Harbor Islands, membership review and election of officers, “park report card” update and public comment.

The meeting will be open to the public. Any person may file with the Superintendent a written statement concerning the matters to be discussed. Persons who wish to file a written statement at the meeting or who want further information concerning the meeting may contact Superintendent Bruce Jacobson at (617) 223-8667.

DATE: March 5, 2007 at 6 p.m.

ADDRESSES: University of Massachusetts—Boston, 100 Morrissey Boulevard, Campus Center, 3rd floor Bayview Room, Boston, MA.

FOR FURTHER INFORMATION CONTACT: Superintendent Bruce Jacobson, (617) 223-8667.

SUPPLEMENTARY INFORMATION: The Advisory Council was appointed by the Director of National Park Service pursuant to Public Law 104-333. The 28 members represent business, educational/cultural, community and environmental entities; municipalities surrounding Boston Harbor; Boston Harbor advocates; and Native American interests. The purpose of the Council is to advise and make recommendations to the Boston Harbor Islands Partnership with respect to the development and implementation of a management plan and the operation of the Boston Harbor Islands NRA.

Dated: January 14, 2008.
Bruce Jacobson,
Superintendent, Boston Harbor Islands NRA.

[FR Doc. E8-2561 Filed 2-11-08; 8:45 am]

BILLING CODE 4310-86-P